DEPARTMENT OF HOMELAND SECURITY

Coast Guard

33 CFR Part 165

[Docket No. USCG-2013-0214]

Safety Zones; Recurring Events in Captain of the Port Duluth Zone—Point to LaPointe Swim

AGENCY: Coast Guard, DHS.

ACTION: Notice of enforcement of regulation.

SUMMARY: The Coast Guard will enforce the safety zone in 33 CFR 165.943 for the Point to LaPointe Swim in LaPointe, WI from 7:20 a.m. through 10 a.m. on August 2, 2014. This action is necessary to protect participants and spectators during the Point to LaPointe swim. During the enforcement period, entry into, transiting, or anchoring within the safety zone is prohibited unless authorized by the Captain of the Port Duluth or his designated on-scene representative.

DATES: The regulations in 33 CFR 165.943(b) will be enforced from 7:20 a.m. through 10 a.m. on August 2, 2014, for the Point to LaPointe Swim safety zone, § 165.943(a)(7).

FOR FURTHER INFORMATION CONTACT: If you have questions on this document, call or email LT Judson Coleman, Chief of Waterways Management, Coast Guard; telephone (218) 725-3818, email Judson.A.Coleman@uscg.mil.

SUPPLEMENTARY INFORMATION: The Coast Guard will enforce the safety zone for the annual Point to LaPointe Swim in 33 CFR 165.943(a)(7) from 7:20 a.m. through 10 a.m. on August 2, 2014 on all waters between Bayfield, WI and Madeline Island, WI within an imaginary line created by the following coordinates: 46°48′50.97″ N, 090°48′44.28″ W, moving southeast to 46°46′44.90″ N, 090°47′33.21″ W, then moving northeast to 46°46′52.51″ N, 090°47′17.14″ W, then moving northwest to 46°49′03.23″ N, 090°48′25.12″ W and finally running back to the starting point.

Entry into, transiting, or anchoring within the safety zone is prohibited unless authorized by the Captain of the Port Duluth or his designated on-scene representative. The Captain of the Port's designated on-scene representative may be contacted via VHF Channel 16.

This document is issued under authority of 33 CFR 165.943 and 5 U.S.C. 552(a). In addition to this publication in the Federal Register, the Coast Guard will provide the maritime community with advance notification of the enforcement of this safety zone via Broadcast Notice to Mariners. The Captain of the Port Duluth or his on-scene representative may be contacted via VHF Channel 16.

Dated: June 4, 2014.
A.H. Moore, Jr.,
Commander, U.S. Coast Guard, Captain of the Port Duluth.

[FR Doc. 2014-14236 Filed 6-17-14; 8:45 am]

BILLING CODE 9110-04-P